DEPARTMENT OF HEALTH AND HUMAN SERVICES

Administration for Children and Families

Supplementary Comment Period; Release of Unaccompanied Children From ORR Custody (OMB #0970-0552)

AGENCY: Office of Refugee Resettlement, Administration for Children and Families, HHS.

ACTION: Request for public comment.

SUMMARY: The Office of Refugee Resettlement (ORR), Administration for Children and Families (ACF), U.S. Department of Health and Human Services (HHS), recently requested public comment on proposed revisions to forms that allow the Unaccompanied Children (UC) Program to process release of UC from ORR custody and provide services after release. In response to comments received, ORR is now providing a supplemental opportunity to provide comments on versions of revised forms that display the available options for dropdown fields. ORR invites any supplementary or new public comments that may arise with the added context of the dropdown options.

DATES: Comments due no later than June 6, 2022

ADDRESSES: You can obtain copies of the proposed collection of information and submit comments by emailing infocollection@acf.hhs.gov. Identify all requests by the title of the information collection.

SUPPLEMENTARY INFORMATION: Description: ORR received several comments on this information collection in response to the Federal Register notice published on February 25, 2021 (86 FR 11536) and provided responses to those comments in its final submission to OMB. Summaries of the comments and ORR's responses can be accessed at https://www.reginfo.gov/public/do/PRAViewDocument?ref_nbr=202109-0970-019. Some of the comments requested that ORR make available copies of the revised forms that display the available options for dropdown fields. In response to this request, ORR updated the screenshots for the three forms that contain dropdown fields. Those forms are:

• Discharge Notification (Form R-2) (https://www.reginfo.gov/public/do/PRAViewIC?ref_nbr=202109-0970-019&icID=242800)

• Release Request (Form R-4) (https://www.reginfo.gov/public/do/PRAViewIC?ref_nbr=202109-0970-019&icID=249540)

• Safety and Well-Being Call Report (Form R-6) (https://www.reginfo.gov/public/do/PRAViewIC?ref_nbr=202109-0970-019&icID=242803)

ORR invites supplementary comments from those who previously submitted comments, as well as new comments from anyone who did not previously submit comments.

Respondents: ORR grantee and contractor staff and released children and sponsors.

Annual Burden Estimates
Instrument | Annual number of respondents | Annual number of responses per respondent | Average burden minutes per response | Annual total burden hours
Verification of Release (Form R-1) | 216 | 253 | 10 | 9,108
Discharge Notification (Form R-2) | 216 | 290 | 10 | 10,440
ORR Release Notification—ORR Notification to ICE Chief Counsel Release of UC to Sponsor and Request to Change Address (Form R-3) | 216 | 270 | 5 | 4,860
Release Request (Form R-4)—Grantee Case Managers | 216 | 254 | 25 | 22,860
Release Request (Form R-4)—Contractor Case Coordinators | 170 | 321 | 20 | 18,190
Safety and Well-Being Call (R-6) | 216 | 253 | 45 | 40,986
Estimated Annual Burden Hours Total |  |  |  | 106,444

Authority: 6 U.S.C. 279; 8 U.S.C. 1232; Flores v. Reno Settlement Agreement, No. CV85-4544-RJK (C.D. Cal. 1996).

Mary B. Jones,
ACF/OPRE Certifying Officer.

[FR Doc. 2022-09842 Filed 5-4-22; 11:15 am]

BILLING CODE 4184-45-P